DEPARTMENT OF THE TREASURY

Office of the Comptroller of the Currency

12 CFR Chapter I

[Docket ID OCC-2023-0016]

FEDERAL RESERVE SYSTEM

12 CFR Chapter II

[Docket No. OP-1828]

FEDERAL DEPOSIT INSURANCE CORPORATION

12 CFR Chapter III

RIN 3064-ZA39

Regulatory Publication and Review Under the Economic Growth and Regulatory Paperwork Reduction Act of 1996

AGENCY: Office of the Comptroller of the Currency (OCC), Treasury; Board of Governors of the Federal Reserve System (Board); Federal Deposit Insurance Corporation (FDIC).

ACTION: Regulatory review; request for comments.

SUMMARY: Pursuant to the Economic Growth and Regulatory Paperwork Reduction Act of 1996 (EGRPRA), the OCC, Board, and FDIC (collectively, the agencies) are reviewing agency regulations to identify outdated or otherwise unnecessary regulatory requirements on insured depository institutions and their holding companies. Over approximately two years, the agencies will publish four Federal Register documents requesting comment on multiple categories of regulations. This second Federal Register document requests comment on regulations in the categories of Consumer Protection; Directors, Officers, and Employees; and Money Laundering.

DATES: Written comments must be received no later than October 30, 2024.

ADDRESSES: Comments should be directed to:

OCC: Commenters are encouraged to submit comments through the Federal eRulemaking Portal. Please use the title “Regulatory Publication and Review Under the Economic Growth and Regulatory Paperwork Reduction Act of 1996” to facilitate the organization and distribution of the comments. You may submit comments by any of the following methods:

• Federal eRulemaking Portal—Regulations.gov:

Go to https://regulations.gov/. Enter “Docket ID OCC-2023-0016” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. ET, or email regulationshelpdesk@gsa.gov.

• Mail: Chief Counsel's Office, Attention: Comment Processing, Office of the Comptroller of the Currency, 400 7th Street SW, Suite 3E-218, Washington, DC 20219.

• Hand Delivery/Courier: 400 7th Street SW, Suite 3E-218, Washington, DC 20219.

Instructions: You must include “OCC” as the agency name and “Docket ID OCC-2023-0016” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov:

Go to https://regulations.gov/. Enter “Docket ID OCC-2023-0016” in the Search Box and click “Search.” Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Material” checkbox. For assistance with the Regulations.gov site, please call 1-866-498-2945 (toll free) Monday-Friday, 9 a.m.-5 p.m. ET, or email regulationshelpdesk@gsa.gov.

The docket may be viewed after the close of the comment period in the same manner as during the comment period.

Board: You may submit comments, identified by Docket No. OP-1828 by any of the following methods:

• Agency Website: https://www.federalreserve.gov. Follow the instructions for submitting comments at https://www.federalreserve.gov/generalinfo/foia/ProposedRegs.cfm.

• Federal eRulemaking Portal: https://www.regulations.gov. Follow the instructions for submitting comments.

• Email: regs.comments@federalreserve.gov. Include the docket number in the subject line of the message.

• Fax: 202-452-3819 or 202-452-3102.

• Mail: Ann E. Misback, Secretary, Board of Governors of the Federal Reserve System, 20th Street and Constitution Avenue NW, Washington, DC 20551.

Public Inspection: In general, all public comments will be made available on the Board's website at www.federalreserve.gov/generalinfo/foia/ProposedRegs.cfm as submitted, and will not be modified to remove confidential, contact or any identifiable information. Public comments may also be viewed electronically or in paper in Room M-4365A, 2001 C Street NW, Washington, DC 20551, between 9 a.m. and 5 p.m. during Federal business weekdays. For security reasons, the Board requires that visitors make an appointment to inspect comments by calling (202) 452-3684. Upon arrival, visitors will be required to present valid government-issued photo identification and to submit to security screening in order to inspect and photocopy comments. For users of TTY-TRS, please call 711 from any telephone, anywhere in the United States.

FDIC: The FDIC encourages interested parties to submit written comments. Please include your name, affiliation, address, email address, and telephone number(s) in your comment. You may submit comments to the FDIC, identified by “EGRPRA” in the subject line of your message by any of the following methods:

• Agency Website: https://www.fdic.gov/resources/regulations/federal-register-publications/. Follow instructions for submitting comments on the FDIC's website.

• Mail: James P. Sheesley, Assistant Executive Secretary, Attention: Comments/Legal OES (EGRPRA), Federal Deposit Insurance Corporation, 550 17th Street NW, Washington, DC 20429.

• Hand Delivery/Courier: Comments may be hand-delivered to the guard station at the rear of the 550 17th Street NW, building (located on F Street NW) on business days between 7 a.m. and 5 p.m. ET.

• Email: comments@FDIC.gov. Include “EGRPRA” in the subject line of the message.

Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act.

FOR FURTHER INFORMATION CONTACT:

OCC: Allison Hester-Haddad, Special Counsel, Daniel Amodeo, Counsel, or John Cooper, Counsel, Chief Counsel's Office (202) 649-5490, Office of the Comptroller of the Currency, 400 7th Street SW, Washington, DC 20219. If you are deaf, hard of hearing, or have a speech disability, please dial 7-1-1 to access telecommunications relay services.

Board: Katie Ballintine, Assistant Director, (202) 452-2555, Maria Jovanovic, Senior Financial Institution Policy Analyst II, (202) 475-6327, and Colton Hamming, Financial Institution Policy Analyst II, (202) 452-3932, Division of Supervision and Regulation; Mandie Aubrey, Senior Counsel, (202) 452-2595, Division of Consumer and Community Affairs; Dafina Stewart, Deputy Associate General Counsel, (202) 452-2677, David Cohen, Senior Attorney, (202) 452-5259, and Vivien Lee, Attorney, (202) 452-2029, Legal Division, Board of Governors of the Federal Reserve System, 20th Street and Constitution Avenue NW, Washington, DC 20551. For users of TTY-TRS, please call 711 from any telephone, anywhere in the United States.

FDIC: Karen J. Currie, Chief, Policy & Program Development Section, (202) 898-3981, Division of Risk Management Supervision; or William Piervincenzi, Supervisory Counsel, (202) 898-6957, Legal Division.

SUPPLEMENTARY INFORMATION:

I. Introduction

Section 2222 of EGRPRA ¹ requires that not less frequently than once every 10 years, the Federal Financial Institutions Examination Council (FFIEC) ² and the agencies ³ conduct a review of their regulations to identify outdated or otherwise unnecessary regulatory requirements imposed on insured depository institutions. In conducting this review, the FFIEC or the agencies will (a) categorize their regulations by type and (b) at regular intervals, provide notice and solicit public comment on categories of regulations, requesting commenters to identify areas of regulations that are outdated, unnecessary, or unduly burdensome.⁴

¹ 12 U.S.C. 3311.

² The FFIEC is an interagency body empowered to prescribe uniform principles, standards, and report forms for the Federal examination of financial institutions and to make recommendations to promote uniformity in the supervision of financial institutions. The FFIEC does not issue regulations that impose burden on financial institutions and, therefore, we have not separately captioned the FFIEC in this document.

³ The FFIEC is comprised of the OCC, Board, FDIC, National Credit Union Administration (NCUA), Consumer Financial Protection Bureau (CFPB), and State Liaison Committee. Of these, only the OCC, Board, and FDIC are statutorily required to undertake the EGRPRA review. The NCUA elected to participate in the first and second EGRPRA reviews, and the NCUA Board again has elected to participate in this review process.

Consistent with its approach during the first and second EGRPRA reviews, NCUA will separately issue documents and requests for comment on its rules. The CFPB is required to review its significant rules and publish a report of its review no later than five years after they take effect. See 12 U.S.C. 5512(d). This process is separate from the EGRPRA process.

⁴ Insured depository institutions are also subject to regulations that are not reviewed under the EGRPRA process because they were not prescribed by the agencies. Examples include rules for which rulemaking authority was transferred to the CFPB and anti-money laundering regulations issued by the Department of the Treasury's Financial Crimes Enforcement Network, among others. If, during the EGRPRA process, the agencies receive a comment about a regulation that is not subject to the EGRPRA review, we will forward that comment to the appropriate agency.

EGRPRA also requires the FFIEC or the agencies to publish in the Federal Register a summary of the comments received, identifying significant issues raised and commenting on those issues. It also directs the agencies to eliminate unnecessary regulations, as appropriate. Finally, the statute requires the FFIEC to submit to Congress a report that summarizes any significant issues raised in the public comments and the relative merits of those issues. The report also must include an analysis of whether the agencies are able to address the regulatory burdens associated with such issues or whether those burdens must be addressed by legislative action.

II. The EGRPRA Review's Targeted Focus

The EGRPRA regulatory review provides an opportunity for the public and the agencies to evaluate groups of related regulations and to identify opportunities for burden reduction.⁵ For example, the EGRPRA review may facilitate the identification of statutes and regulations that share similar goals or complementary methods where one or more agencies could eliminate the overlapping regulatory requirements. Alternatively, commenters may identify regulations or statutes that impose requirements that are no longer consistent with current business practices and may warrant revision or elimination.

⁵ See supra note 1.

The EGRPRA review also provides the agencies and the public with an opportunity to consider how to reduce the impact on community banks or their holding companies. The agencies are aware of the role that these institutions play in providing consumers and businesses across the nation with essential financial services and access to credit. The agencies are especially concerned about the impact of requirements on these smaller institutions. The agencies understand that when a new regulation is issued or a current regulation amended, smaller institutions may have to devote a significant amount of their resources to determine if and how the regulation will affect them. Through the public comment process, the EGRPRA review can help the agencies identify and target regulatory changes to reduce impacts on those smaller institutions.

Burden reduction must be compatible with consumer protection and the safety and soundness of insured depository institutions, their affiliates, and the financial system as a whole. Burden reduction also must be consistent with the agencies' statutory mandates, many of which require the issuance of regulations. EGRPRA recognizes that effective burden reduction may require statutory changes. Accordingly, as part of this review, we specifically ask the public to comment on the relationship among burden reduction, regulatory requirements, policy objectives, and statutory mandates. We also seek quantitative data about the impact of rules.

We note that the agencies must consider regulatory burden each time an agency proposes, adopts, or amends a rule. For example, under the Paperwork Reduction Act of 1995 ⁶ and the Regulatory Flexibility Act,⁷ the agencies assess each rulemaking with respect to the burdens the rule might impose. The agencies also invite the public to comment on proposed rules as required by the Administrative Procedure Act.⁸

⁶ 44 U.S.C. 3501-3521.

⁷ 5 U.S.C. 610.

⁸ 5 U.S.C. 551-559.

III. The EGRPRA Review Process

Taken together for purposes of the EGRPRA review process, the agencies' regulations covering insured depository institutions encompass more than 100 subjects.⁹ Consistent with the EGRPRA statute and past practice, the agencies have grouped these regulations into the following 12 categories listed in alphabetical order: Applications and Reporting; Banking Operations; Capital; Community Reinvestment Act; Consumer Protection; ¹⁰ Directors, Officers, and Employees; International Operations; Money Laundering; Powers and Activities; Rules of Procedure; Safety and Soundness; and Securities. These categories were used during the prior EGRPRA reviews. The agencies determined the categories by sorting the regulations by type and sought to have no category be too large or broad. These categories remain useful, and the agencies have not modified the categories for purposes of this review.

⁹ Consistent with EGRPRA's focus on reducing burden on insured depository institutions, the agencies have not included their internal, organizational, or operational regulations in this review. These regulations impose minimal, if any, burden on insured depository institutions.

¹⁰ The agencies are seeking comment only on consumer protection regulations for which they retain rulemaking authority for insured depository institutions and holding companies under the Dodd-Frank Wall Street Reform and Consumer Protection Act, Public Law 111-203, 124 Stat. 1376 (2010) (Dodd-Frank Act).

To carry out the EGRPRA review, the agencies plan to publish four Federal Register documents with each addressing one or more categories of rules. Each Federal Register document will have a 90-day comment period. On February 6, 2024, the agencies published the first document addressing the following categories of regulations: Applications and Reporting; Powers and Activities; and International Operations.¹¹ This second document addresses Consumer Protection; Directors, Officers, and Employees; and Money Laundering. The agencies invite the public to identify outdated, unnecessary, or unduly burdensome regulatory requirements imposed on insured depository institutions and their holding companies in these three categories.

¹¹ 89 FR 8084 (Feb. 6, 2024).

To assist the public's understanding of how the agencies have organized the EGRPRA review, the agencies have prepared a chart that lists the categories of regulations for which we are requesting comments. The chart's left column divides the categories into specific subject-matter areas. The headings at the top of the chart identify the types of institutions affected by the regulations.

The agencies will review the comments received and determine whether further action is appropriate with respect to the regulations. The agencies will consult and coordinate with each other and expect generally to make this determination jointly, as appropriate, in the case of rules that have been issued on an interagency basis. Similarly, as appropriate, the agencies will undertake any rulemaking to amend or repeal those rules on an interagency basis. For rules issued by a single agency, the issuing agency will review the comments received and independently determine whether amendments to or repeal of its rules are appropriate.

Further, as part of the EGRPRA review, the agencies are holding a series of public outreach meetings to provide an opportunity for bankers, consumer and community groups, and other interested parties to present their views directly to senior management and staff of the agencies. More information about the outreach meetings can be found on the agencies' EGRPRA website, http://egrpra.ffiec.gov.

IV. Request for Comments on Regulations in the Consumer Protection; Directors, Officers, and Employees; and Money Laundering Categories

The agencies are requesting comment on regulations in the Consumer Protection; Directors, Officers, and Employees; and Money Laundering categories to identify outdated, unnecessary, or unduly burdensome requirements imposed on insured depository institutions and their holding companies. The agencies recognize that there are proposed rules concerning some of these categories open as of the date of this document and will solicit comment on all rules finalized by the agencies before the publication of the last EGRPRA document in the series. In addition to comments on regulations in these categories generally, the agencies are requesting comments on certain specific regulations described below within these categories issued since the last EGRPRA review. Where possible, the agencies ask commenters to cite to specific regulatory language or provisions. The agencies also welcome suggested alternative provisions or language in support of a comment, where appropriate. The agencies will consider comments submitted anonymously.

Specific Issues for Commenters To Consider

The agencies specifically invite comment on the following issues as they pertain to the agencies' Consumer Protection; Directors, Officers, and Employees; and Money Laundering rules addressed in this document. The agencies have included two additional questions in the cumulative effects category since the issuance of the first EGRPRA Federal Register document. We will ask these same questions for each subsequent document we issue in connection with the EGRPRA process and invite comments on these additional questions for the categories in the first document.

• Need and purpose of the regulations.

○ Question 1: Have there been changes in the financial services industry, consumer behavior, or other circumstances that cause any regulations in these categories to be outdated, unnecessary, or unduly burdensome? If so, please identify the regulations, provide any available quantitative analyses or data, and indicate how the regulations should be amended.

○ Question 2: Do any of these regulations impose burdens not required by their underlying statutes? If so, please identify the regulations and indicate how they should be amended.

• Overarching approaches/flexibilities.

○ Question 3: With respect to the regulations in these categories, could an agency use a different regulatory approach to lessen the burden imposed by the regulations and achieve statutory intent?

○ Question 4: Do any of these rules impose unnecessarily inflexible requirements? If so, please identify the regulations and indicate how they should be amended.

• Cumulative effects.

○ Question 5: Looking at the regulations in a category as a whole, are there any requirements that are redundant, inconsistent, or overlapping in such a way that taken together, impose an unnecessary burden that could potentially be addressed? If so, please identify those regulations, provide any available quantitative analyses or data, and indicate how the regulations should be amended.

○ Question 6: Have the agencies issued similar regulations in the same area that should be considered together as bodies of regulation, when assessing the cumulative effects on an insured depository institution or holding company? If so, please identify the regulations, why they should be considered together, and any available analyses or data for the agencies' consideration.

○ Question 7: Could any regulations or category of regulation be streamlined or simplified to reduce unduly burdensome or duplicative regulatory requirements?

• Effect on competition.

○ Question 8: Do any of the regulations in these categories create competitive disadvantages for one part of the financial services industry compared to another or for one type of insured depository institution compared to another? If so, please identify the regulations and indicate how they should be amended.

• Reporting, recordkeeping, and disclosure requirements.

○ Question 9: Do any of the regulations in these categories impose outdated, unnecessary, or unduly burdensome reporting, recordkeeping, or disclosure requirements on insured depository institutions or their holding companies?

○ Question 10: Could an insured depository institution or its holding company fulfill any of these requirements through new technologies (if they are not already permitted to do so) and experience a burden reduction? If so, please identify the regulations and indicate how they should be amended.

• Unique characteristics of a type of institution.

○ Question 11: Do any of the regulations in these categories impose requirements that are unwarranted by the unique characteristics of a particular type of insured depository institution or holding company? If so, please identify the regulations and indicate how they should be amended.

• Clarity.

○ Question 12: Are the regulations in these categories clear and easy to understand?

○ Question 13: Are there specific regulations for which clarification is needed? If so, please identify the regulations and indicate how they should be amended.

• Impact to community banks and other small, insured depository institutions.

○ Question 14: Are there regulations in these categories that impose outdated, unnecessary, or unduly burdensome requirements on a substantial number of community banks, their holding companies, or other small, insured depository institutions or holding companies?

○ Question 15: Have the agencies issued regulations pursuant to a common statute that, as applied by the agencies, create redundancies or impose inconsistent requirements?

○ Question 16: Should any of these regulations issued pursuant to a common statute be amended or repealed to minimize this impact? If so, please identify the regulations and indicate how they should be amended.

○ Question 17: Have the effects of any regulations in these categories changed over time that now have a significant economic impact on a substantial number of small, insured depository institutions or holding companies? If so, please identify the regulations and indicate how they should be amended. The agencies seek information on (1) the continued need for the rule; (2) the complexity of the rule; (3) the extent to which the rule overlaps, duplicates or conflicts with other Federal rules, and, to the extent feasible, with State and local governmental rules; and (4) the degree to which technology, economic conditions, or other factors have changed in the area affected by the rule.

• Scope of rules.

○ Question 18: Is the scope of each rule in these categories consistent with the intent of the underlying statute(s)?

○ Questions 19: Could the agencies amend the scope of a rule to clarify its applicability or reduce the burden, while remaining faithful to statutory intent? If so, please identify the regulations and indicate how they should be amended.

Specific Interagency Regulations Issued Since the Last EGRPRA Review

• Loans in Areas Having Special Flood Hazards: The OCC, Board, FDIC, Farm Credit Administration, and NCUA amended their regulations regarding loans in areas having special flood hazards to implement the private flood insurance provisions of the Biggert-Waters Flood Insurance Reform Act of 2012 (Biggert-Waters Act).¹² Specifically, the final rule requires regulated lending institutions to accept flood insurance policies that meet the statutory definition of “private flood insurance” in the Biggert-Waters Act and permits regulated lending institutions to exercise their discretion to accept flood insurance policies issued by private insurers and plans providing flood coverage issued by mutual aid societies that do not meet the statutory definition of “private flood insurance,” subject to certain restrictions.

¹² 84 FR 4953 (Feb. 20, 2019).

• Thresholds Increase for the Major Assets Prohibition of the Depository Institution Management Interlocks Act Rules: The OCC, Board, and FDIC amended their regulations to increase the thresholds in the major assets prohibition for management interlocks for purposes of the Depository Institution Management Interlocks Act (DIMIA). The DIMIA major assets prohibition prohibits a management official of a depository organization with assets above a certain asset threshold (or any affiliate of such an organization) from serving at the same time as a management official of an unaffiliated depository organization with assets above a certain asset threshold (or any affiliate of such an organization). The final rule increased both major assets prohibition thresholds to $10 billion to account for changes in the United States banking market since the current thresholds were established in 1996.¹³

¹³ 84 FR 54465 (Oct. 10, 2019).

Specific OCC Regulations Issued Since the Last EGRPRA Review

• Integration of National Bank and Savings Association Regulations: The OCC integrated certain rules originally issued by the OCC with respect to national banks and by the former Office of Thrift Supervision (OTS) with respect to savings associations.¹⁴ The OCC integrated rules relating to consumer protection in insurance sales, management interlocks, appraisals, and the Fair Credit Reporting Act (FCRA). This rulemaking also made technical amendments to the OCC's FCRA rule to conform to provisions of the Dodd-Frank Act.

¹⁴ 79 FR 28393 (May 16, 2014).

• Charging Interest by National Banks at Rates Permitted Competing Institutions; Charging Interest to Corporate Borrowers: The OCC issued a rule to clarify and reaffirm that a bank may transfer a loan without affecting the permissible interest term.¹⁵

¹⁵ 85 FR 33530 (Jun. 2, 2020).

• Suspicious Activity Reports (SARs). In March 2022, the OCC issued a rule to allow the OCC to issue exemptions from the requirements of the OCC's SAR regulations based on a request from an institution, subject to certain criteria.¹⁶

¹⁶ 87 FR 15323 (Mar. 18, 2022).

Specific FDIC Regulations Issued Since the Last EGRPRA Review

• FDIC Official Signs and Advertising Requirements, False Advertising, Misrepresentation of Insured Status, and Misuse of the FDIC's Name or Logo: The FDIC amended its regulations governing use of the official FDIC sign and insured depository institutions' advertising statements to reflect how depositors conduct business with insured depository institutions today, including through digital and mobile channels.¹⁷ The final rule also clarified the FDIC's regulations regarding misrepresentations of deposit insurance coverage by addressing specific scenarios where consumers may be misled as to whether they are conducting business with an insured depository institution and whether their funds are protected by Federal deposit insurance.

¹⁷ 89 FR 3504 (Jan. 18, 2024).

• False Advertising, Misrepresentation of Insured Status, and Misuse of the FDIC's Name or Logo: The FDIC adopted a final rule to implement section 18(a)(4) of the Federal Deposit Insurance Act (FDI Act).¹⁸ The final rule established the process by which the FDIC will identify and investigate conduct that may violate section 18(a)(4) of the FDI Act, the standards under which such conduct will be evaluated, and the procedures that the FDIC will follow when formally and informally enforcing the provisions of section 18(a)(4) of the FDI Act.

¹⁸ 87 FR 33415 (Jun. 2, 2022).

• Simplification of Deposit Insurance Rules: The FDIC amended its regulations governing deposit insurance coverage.¹⁹ The amendments simplified the deposit insurance regulations by establishing a “trust accounts” category that governs coverage of deposits of both revocable trusts and irrevocable trusts using a common calculation, and the amendments provided consistent deposit insurance treatment for all mortgage servicing account balances held to satisfy principal and interest obligations to a lender.

¹⁹ 87 FR 4455 (Jan. 28, 2022).

• Joint Ownership Deposit Accounts: The FDIC amended its deposit insurance regulations to update one of the requirements that must be satisfied for an account to be separately insured as a joint account.²⁰ Specifically, the final rule provides an alternative method to satisfy the signature card requirement. Under the final rule, the signature card requirement may be satisfied by information contained in the deposit account records of the insured depository institution establishing co-ownership of the deposit account, such as evidence that the institution has issued a mechanism for accessing the account to each co-owner or evidence of usage of the deposit account by each co-owner.

²⁰ 84 FR 35022 (Jul. 22, 2019).

• Federal Interest Rate Authority: FDIC issued regulations clarifying the law that governs the interest rates State-chartered banks and insured branches of foreign banks (collectively, State banks) may charge.²¹ These regulations provided that State banks are authorized to charge interest at the rate permitted by the State in which the State bank is located, or one percent in excess of the 90-day commercial paper rate, whichever is greater. The regulations also provided that whether interest on a loan is permissible under section 27 of the Federal Deposit Insurance Act is determined at the time the loan is made, and interest on a loan permissible under section 27 is not affected by a change in State law, a change in the relevant commercial paper rate, or the sale, assignment, or other transfer of the loan.

²¹ 85 FR 44146 (Jul. 22, 2020).

V. The Agencies' Review of Regulations Under Section 610 of the Regulatory Flexibility Act (RFA)

Consistent with past practice, the agencies will use the EGRPRA review to satisfy their respective obligations under section 610 of the RFA.²² To that end, for each rule that has a significant impact on a substantial number of small entities issued in the last 10 years, the agencies invite comment on (1) the continued need for the rule; (2) the complexity of the rule; (3) the extent to which the rule overlaps, duplicates or conflicts with other Federal rules, and, to the extent feasible, with State and local governmental rules; and (4) the length of time since the rule has been evaluated or the degree to which technology, economic conditions, or other factors have changed in the area affected by the rule. The purpose of the review will be to determine whether such rules should be continued without change, amended, or rescinded, consistent with the stated objectives of applicable statutes, to minimize any significant economic impact of the rules upon a substantial number of such small entities.

²² Section 610 of the Regulatory Flexibility Act, 5 U.S.C. 610, imposes a continuing obligation on the agencies to review regulations that may have a significant economic impact upon a substantial number of small entities within 10 years after a final rule is published. A subset of the rules the agencies will review under EGRPRA will also be reviewed under the section 610 review criteria. The agencies will indicate which rules are subject to section 610 review. The factors the agencies consider in evaluating a rule under 5 U.S.C. 610 are (1) the continued need for the rule; (2) the nature of complaints or comments received concerning the rule from the public; (3) the complexity of the rule; (4) the extent to which the rule overlaps, duplicates, or conflicts with other Federal rules, and, to the extent feasible, with State and local governmental rules; and (5) the length of time since the rule has been evaluated or the degree to which technology, economic conditions, or other factors have changed in the area affected by the rule.

The agencies have not identified any rules pertaining to Consumer Protection; Directors, Officers, and Employees; and Money Laundering that would have a significant impact on a substantial number of small entities. The agencies will consider public comments submitted through the EGRPRA review process and agency experience to identify regulations where the agencies can reduce burdens that have a significant impact on a substantial number of small insured depository institutions.²³

²³ The review will be consistent with the requirements of a Regulatory Flexibility Act, section 610 review. The agencies will determine whether particular rules should be continued without change, amended, or rescinded, consistent with the objectives of applicable statutes, to minimize any significant economic impact of the rules on a substantial number of small insured depository institutions.

Categories and Regulations Addressed in the Second Federal Register Notice
Subject | National banks | State member banks | State non-member banks | Federal savings associations | State savings associations | BHCs & FHCs ---------- SLHCs
Consumer Protection ¹—
Interagency Regulations
Consumer Protection in Sales of Insurance | 12 CFR part 14 | 12 CFR part 208, subpart H [Reg. H] | 12 CFR part 343 | 12 CFR part 14 | 12 CFR part 343
Fair Housing | 12 CFR part 27 |  | 12 CFR part 338 | 12 CFR part 128 (including other nondiscrimination requirements) | 12 CFR part 338
Loans in Identified Flood Hazard Areas | 12 CFR part 22 | 12 CFR 208.25 [Reg. H] | 12 CFR part 339 | 12 CFR part 22 | 12 CFR part 339
Prohibition Against Use of Interstate Branches Primarily for Deposit Production | 12 CFR part 25, subpart E | 12 CFR part 208.7 [Reg. H] | 12 CFR part 369
Information Security Standards | 12 CFR part 30, Appx. B | 12 CFR part 208, Appx. D-2 [Reg. H] | 12 CFR part 364, Appx. B | 12 CFR part 30, Appx. B | 12 CFR part 364, Appx. B | 12 CFR part 225, Appx. F [Reg. Y]. ----------
Fair Credit Reporting Act Duties of Users of Consumer Reports Regarding Address Discrepancies and Records Disposal | 12 CFR part 41, subpart I | 12 CFR part 222, subpart I [Reg V] | 12 CFR part 334, subpart I | 12 CFR part 41, subpart I | 12 CFR part 334, subpart I
Fair Credit Reporting Act Consumer Information Identity Theft Red Flags | 12 CFR part 41, subpart J | 12 CFR part 222 subpart J [Reg V] | 12 CFR part 334, subpart J | 12 CFR part 41, subpart J | 12 CFR part 334, subpart J
OCC Regulations
Federal Savings Association Advertising |  |  |  | 12 CFR 163.27
Federal Savings Association Tying Restriction Exception |  |  |  | 12 CFR 163.36
Residential Mortgage Lending Practices | 12 CFR part 30, appx. C |  |  | 12 CFR part 30, appx. C
FDIC Regulations
Advertisement of Membership | 12 CFR part 328 | 12 CFR part 328 | 12 CFR part 328 | 12 CFR part 328 | 12 CFR part 328
Deposit Insurance Coverage | 12 CFR part 330 | 12 CFR part 330 | 12 CFR part 330 | 12 CFR part 330 | 12 CFR part 330
Certification of Assumption of Deposits and Notification of Changes of Insured Status | 12 CFR part 307 | 12 CFR part 307 | 12 CFR part 307 | 12 CFR part 307 | 12 CFR part 307
Federal Interest Rate Authority |  | 12 CFR part 331 | 12 CFR part 331
Directors, Officers, and Employees
Interagency Regulations
Limits on Extensions of Credit to Executive Officers, Directors and Principal Shareholders; Related Disclosure Requirements | 12 CFR part 31 | 12 CFR part 215 [Reg. O] | 12 CFR 337.3 | 12 CFR part 31 | 12 CFR 337.3
Management Official Interlocks | 12 CFR part 26 | 12 CFR part 212 [Reg. L] | 12 CFR part 348 | 12 CFR part 26 | 12 CFR part 348 | 12 CFR part 212 [Reg. L]. ---------- 12 CFR part 238, subpart J [Reg LL].
OCC Regulations
National Bank Activities and Operations | 12 CFR part 7, subparts B and C
Federal Savings Association Operations |  |  |  | 12 CFR part 163
Federal Savings Association Restrictions on Transactions with Officers, Directors, and Others |  |  |  | 12 CFR part 31; 12 CFR 160.130
FDIC Regulations
Golden Parachute and Indemnification Payments | 12 CFR part 359 | 12 CFR part 359 | 12 CFR part 359 | 12 CFR part 359 | 12 CFR part 359 | 12 CFR part 359. ---------- 12 CFR part 359.
Money Laundering
Interagency Regulations
Bank Secrecy Act Compliance | 12 CFR part 21, subpart C | 12 CFR 208.63 [Reg. H] | 12 CFR part 326, subpart B | 12 CFR part 21, subpart C | 12 CFR part 326, subpart B
Reports of Crimes or Suspected Crimes | 12 CFR part 21, subpart B | 12 CFR 208.62 and 208.63 [Reg. H] | 12 CFR part 353 | 12 CFR 163.180(d) | 12 CFR part 353 | 12 CFR 225.4(f) [Reg. Y].
¹ Regulations for which rulemaking authority has transferred to the CFPB are not included in this Consumer Protection category. As described in the SUPPLEMENTARY INFORMATION section of this document, the CFPB is required to review its significant rules and publish a report of its review no later than five years after they take effect in a process separate from the EGRPRA process.

Michael J. Hsu,
Acting Comptroller of the Currency.
By order of the Board of Governors of the Federal Reserve System.
Ann E. Misback,
Secretary of the Board.
Federal Deposit Insurance Corporation.
By order of the Board of Directors.
Dated at Washington, DC, on June 20, 2024.
James P. Sheesley,
Assistant Executive Secretary.

[FR Doc. 2024-16729 Filed 7-31-24; 8:45 am]

BILLING CODE 4810-33-P; 6210-01-P; 6714-01-P